DEPARTMENT OF THE INTERIOR

Fish and Wildlife Service

[FWS-R5-R-2011-N001; BAC-4311-K9-S3]

Presquile National Wildlife Refuge, Chesterfield County, VA; Comprehensive Conservation Plan and Environmental Assessment

AGENCY: Fish and Wildlife Service, Interior.

ACTION: Notice of intent; request for comments.

SUMMARY: We, the U.S. Fish and Wildlife Service (Service), intend to prepare a comprehensive conservation plan (CCP) and environmental assessment (EA) for Presquile National Wildlife Refuge (NWR) located in Chesterfield County, Virginia, approximately 20 miles south of Richmond on the James River. We provide this notice in compliance with our CCP policy to advise other Federal and State agencies, Tribes, and the public of our intentions, and to obtain suggestions and information on the scope of issues to consider in the planning process.

DATES: To ensure consideration, please send your written comments by May 16, 2011. We will announce opportunities for public input in local news media throughout the CCP process.

ADDRESSES: Send your comments or requests for more information by any of the following methods.

E-mail: northeastplanning@fws.gov. Include “Presquile NWR CCP” in the subject line of the message.

Fax: Attention: Nancy McGarigal, 413-253-8468.

U.S. Mail: U.S. Fish and Wildlife Service, 300 Westgate Center Drive, Hadley, MA 01305.

In-Person Drop-off: You may drop off comments during regular business hours at 11110 Kimages Road, Charles City, VA 23030.

FOR FURTHER INFORMATION CONTACT: Eastern Virginia Rivers National Wildlife Refuge Complex; phone: 804-333-1470; fax: 804-333-3396.

SUPPLEMENTARY INFORMATION:

Introduction

With this notice, we initiate our process for developing a CCP for Presquile NWR in Chesterfield County, VA. This notice complies with our CCP policy to: (1) Advise other Federal and State agencies, Tribes, and the public of our intention to conduct detailed planning on this refuge, and (2) obtain suggestions and information on the scope of issues to consider in the environmental document and during development of the CCP.

Background

The CCP Process

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing toward the mission of the National Wildlife Refuge System (NWRS), consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update the CCP at least every 15 years in accordance with the Administration Act.

Each unit of the NWRS was established for specific purposes. We use these purposes as the foundation for developing and prioritizing the management goals and objectives for each refuge within the NWRS mission, and to determine how the public can use each refuge. The planning process is a way for us and the public to evaluate management goals and objectives that will ensure the best possible approach to wildlife, plant, and habitat conservation, while providing for wildlife-dependent recreation opportunities that are compatible with each refuge's establishing purposes and the mission of the NWRS.

Our CCP process provides participation opportunities for Tribal, State, and local governments, agencies, organizations, and the public. At this time we encourage input in the form of issues, concerns, ideas, and suggestions for the future management of Presquile NWR.

We will conduct the environmental review of this project and develop an EA in accordance with the requirements of the National Environmental Policy Act of 1969, as amended (NEPA) (42 U.S.C. 4321 et seq.); NEPA regulations (40 CFR parts 1500-1508); other appropriate Federal laws and regulations; and our policies and procedures for compliance with those laws and regulations.

Presquile National Wildlife Refuge

Presquile NWR is one of four refuges that comprise the Eastern Virginia Rivers NWR Complex. The refuge is a 1,329-acre island in the James River. The Service acquired the land in 1952. It was previously operated as a dairy farm. Established to protect habitat for wintering waterfowl and other migratory birds, Presquile NWR is an important anchor in the network of refuges on and around the Chesapeake Bay.

Refuge habitats include swamp, tidal marsh, open fields and brushland, forest riparian, and river escarpment. This landscape supports a wide diversity of wildlife species. Over 200 species of birds have been documented on the refuge, 90 of which occur in the summer breeding season. Other refuge wildlife includes 59 fish species, 22 mammal species, 4 amphibian species, and 18 different reptile species.

Scoping: Preliminary Issues, Concerns, and Opportunities

We have identified preliminary issues, concerns, and opportunities that we may address in the CCP. We have briefly summarized these issues below. During public scoping, we may identify additional issues.

(1) Ecoregional or ecosystem-wide issues, such as climate change, regional land conservation, and protection of water quality on the James River and throughout the Chesapeake Bay Watershed;

(2) Biological program issues, such as habitat and species management needs, protection, restoration, monitoring, inventories, and research;

(3) Public use program issues, such as the breadth and quality of programs, public access, user conflicts, and use impacts on natural resources;

(4) Community relations and outreach issues and opportunities, such as tourism, and local economic impacts; and

(5) Coordination and communication issues and opportunities with other environmental educators, and Federal, State, and Tribal Governments, and with non-governmental conservation partners.

Public Meetings

We will give the public an opportunity to provide input at a public meeting (or meetings). You can obtain the schedule from the planning team leader or project leader (see ADDRESSES). You may also send comments anytime during the planning process by mail, e-mail, or fax (see ADDRESSES). There will be additional opportunities to provide public input once we have prepared a draft CCP.

Public Availability of Comments

Before including your address, phone number, e-mail address, or other personal identifying information in your comment, you should be aware that your entire comment—including your personal identifying information—may be made publicly available at any time. While you can ask us in your comment to withhold your personal identifying information from public review, we cannot guarantee that we will be able to do so.

Dated: March 11, 2011.
Wendi Weber,
Acting Regional Director, U.S. Fish and Wildlife Service.

[FR Doc. 2011-8812 Filed 4-13-11; 8:45 am]

BILLING CODE 4310-55-P